DEPARTMENT OF COMMERCE

National Oceanic and Atmospheric Administration

RIN 0648-XA573

Atlantic Highly Migratory Species; Meeting of the Atlantic Highly Migratory Species Advisory Panel

AGENCY: National Marine Fisheries Service (NMFS), National Oceanic and Atmospheric Administration (NOAA), Commerce.

ACTION: Notice of public meeting.

SUMMARY: NMFS will hold a 3-day Atlantic Highly Migratory Species (HMS) Advisory Panel (AP) meeting in September 2011. The intent of the meeting is to consider options for the conservation and management of Atlantic HMS. The meeting is open to the public.

DATES: The AP meeting will be held Sept. 20, 2011, through Sept. 22, 2011.

ADDRESSES: The meeting will be held in Silver Spring, MD 20910.

FOR FURTHER INFORMATION CONTACT: Brian Parker or Margo Schulze-Haugen at (301) 427-8503.

SUPPLEMENTARY INFORMATION: The Magnuson-Stevens Fishery Conservation and Management Act, 16 U.S.C. 1801 et seq., as amended by the Sustainable Fisheries Act, Public Law 104-297, provided for the establishment of an AP to assist in the collection and evaluation of information relevant to the development of any Fishery Management Plan (FMP) or FMP amendment for Atlantic HMS. NMFS consults with and considers the comments and views of AP members when preparing and implementing FMPs or FMP amendments for Atlantic tunas, swordfish, billfish, and sharks.

The AP has previously consulted with NMFS on: Amendment 1 to the Billfish FMP (April 1999); the HMS FMP (April 1999); Amendment 1 to the HMS FMP (December 2003); the Consolidated HMS FMP (October 2006); Amendments 1, 2, and 3 to the Consolidated HMS FMP (April and October 2008, February and September 2009, and May 2010); an Advanced Notice of the Proposed Rule (ANPR) for the future management of the shark fishery (September 2010) and the ANPR for Atlantic HMS published June 2009 (September 2010); and a proposed rule to allow retention of swordfish caught by squid trawl vessels (April 2011), among other things.

At the September 2011 AP meeting, NMFS plans to discuss Atlantic bluefin tuna management, revitalizing the swordfish fishery, the Future of the Shark Fishery, other shark fishery management issues, and items contained in the Advanced Notice of Proposed Rulemaking that published June 1, 2009 (74 FR 26174). The meeting may also continue discussions on the implementation of 2010 International Commission for the Conservation of Atlantic Tunas measures, an update on the recreational action plan for Atlantic HMS, permitting and management options for swordfish and smoothhound sharks in trawl fisheries, electronic dealer reporting, vessel monitoring systems, and monitoring methods for HMS fisheries. NMFS also plans to hold a shark catch share workshop for interested fishermen after the AP meeting. Information on the venue and agenda will be provided at a later date.

Special Accommodations

This meeting is physically accessible to people with disabilities. Requests for sign language interpretation or other auxiliary aids should be directed to Brian Parker at (301) 427-8503 at least 7 days prior to the meeting.

Dated: July 26, 2011.
Margo Schulze-Haugen,
Acting Director, Office of Sustainable Fisheries, National Marine Fisheries Service.

[FR Doc. 2011-19401 Filed 7-29-11; 8:45 am]

BILLING CODE 3510-22-P